DEPARTMENT OF TRANSPORTATION

Federal Transit Administration

[Docket No. FTA-2016-0024]

Compendium of Public Transportation Safety Standards

AGENCY: Federal Transit Administration (FTA), DOT.

ACTION: Request for comments.

SUMMARY: FTA is inviting the public to evaluate and provide comments on its Compendium of transit safety standards and protocols. The Fixing America's Surface Transportation Act (FAST Act) requires the Secretary of Transportation to conduct a review of public transportation safety standards and protocols to document existing standards and protocols and examine their efficacy. Following the review, the Secretary also is required to engage with the public in an evaluation of the standards to assess the need to establish additional Federal minimum public transportation safety standards. Upon completion of the review and evaluation, the Secretary must issue a report presenting the findings of the review of standards; the outcome of the evaluation; a comprehensive set of recommendations to improve the safety of the public transportation industry, including recommendations for regulatory changes, if applicable; and actions that the Secretary of the Department of Transportation will take to address the recommendations provided.

DATES: Comments must be submitted by June 16, 2016. Comments filed after the deadline will be considered to the extent practicable.

ADDRESSES: Please submit your comments by only one of the following methods, identifying your submission by Docket Number (FTA-2016-0024).

• Federal eRulemaking Portal: Submit electronic comments and other data to http://www.regulations.gov.

• U.S. Mail: Send comments to Docket Operations, U.S. Department of Transportation, 1200 New Jersey Avenue SE., West Building Room W12-140, Washington, DC 20590-0001.

• Hand Delivery or Courier: Take comments to Docket Operations in Room W12-140 of the West Building, Ground Floor, at 1200 New Jersey Avenue SE., Washington, DC, between 9:00 a.m. and 5:00 p.m., Monday through Friday, except Federal holidays.

• Fax: Fax comments to Docket Operations, U.S. Department of Transportation, at (202) 493-2251.

Instructions: You must include the agency name (Federal Transit Administration) and Docket Number (FTA-2016-0024) for this notice, at the beginning of your comments. If sent by mail, submit two copies of your comments. Due to security procedures in effect since October 2001, mail received through the U.S. Postal Service may be subject to delays. Parties submitting comments should consider using an express mail firm to ensure the prompt filing of any submissions not filed electronically or by hand. If you wish to receive confirmation that FTA received your comments, you must include a self-addressed stamped postcard. All comments received will be posted without change to http://www.regulations.gov, including any personal information provided. Anyone is able to search the electronic form for all comments received into any of our dockets by the name of the individual submitting the comment (or signing the comment, if submitted on behalf of an association, business, labor union, etc.). You may review the United States Department of Transportation's (DOT) Privacy Act system of records notice for the DOT Federal Docket Management System (FDMS) in the Federal Register published on December 29, 2010 (75 FR 82132) at http://www.gpo.gov/fdsys/pkg/FR-2010-12-29/pdf/2010-32876.pdf.

FOR FURTHER INFORMATION CONTACT: For program matters, contact Brian Alberts, Office of Transit Safety and Oversight, (202) 366-1783 or Brian.Alberts@dot.gov; or Raj Wagley, Office or Research and Innovation, (202)-366-5386 or Raj.Wagley@dot.gov.

Office hours are from 8:30 a.m. to 5:00 p.m., Monday through Friday, except Federal holidays.

SUPPLEMENTARY INFORMATION:

Table of Contents

I. Overview

II. Summary of Compendium of Public Transportation Safety Standards

III. Questions

IV. Use of Stakeholder Comments

I. Overview

Section 3020 of the FAST Act requires the Secretary of Transportation to conduct a review of public transportation safety standards and protocols to assess the efficacy of those standards and protocols. The content of the review must include minimum safety performance standards developed by the public transportation industry and safety performance standards, practices, or protocols in use by rail fixed guideway public transportation systems. The review also must include rail and bus safety standards, practices, or protocols in use by public transportation systems regarding (1) rail and bus design and the workstation of rail and bus operators, (2) scheduling fixed route rail and bus service with adequate time and access for operators to use restroom facilities, (3) fatigue management, (4) and crash avoidance and worthiness. Section 3020(b) of the FAST Act requires the Secretary to conduct an evaluation following the review in consultation with the public transportation industry to assess the need to establish additional Federal minimum public transportation safety standards.

FTA has placed in the docket and on FTA's Web site its review of public transportation safety standards and protocols contained as a “Compendium of Public Transportation Safety Standards” (Compendium) provided in tabular format. Included within this Compendium are standards for all public transportation modes (where available), including commuter rail and ferry boat, modes for which regulatory oversight rests within another DOT modal administration. FTA seeks comments from the public transportation industry on the utilization of the standards contained within the Compendium, observations or data driven statements of the effectiveness of the standards, and areas for which standards should be established by FTA through subsequent rulemaking activity.

II. Summary of Compendium of Public Transportation Safety Standards

The Compendium includes those standards or protocols applicable to or used in those transit modes referenced in the National Transit Database, including: Rail Transit (Alaska Railroad, Cable Car, Commuter Rail, Heavy Rail, Hybrid Rail, Inclined Plan, Light Rail, Monorail/Automated Guideway, and Streetcar) and Non-Rail Transit (Aerial Tramway; Bus, Bus Rapid Transit, Commuter Bus, Demand Response, Demand Response Taxi, Ferryboat, Jitney, Público, Trolleybus, and Vanpool).

The Compendium identifies state and Federal regulations, minimum safety performance standards that have been developed by the public transportation industry (within modes described above), as well as those specific standards or protocols in use by rail fixed guideway public transportation systems, including those related to emergency plans and procedures for passenger evacuations, training programs that ensure personnel compliance and readiness in emergency situations, and coordination plans with emergency responders.

The Compendium is a single Excel file with individual tabs within the workbook titled “bus,” “rail,” “other modes,” “and all modes” to aid in the review of the standards presented. Within each of these tabs, standards are presented alphabetically by specific source. As an example, standards and recommended practices from APTA would appear first and standards from “States” would be presented last. The Compendium is further organized by a series of worksheet column headings that include the title of the standard, and the type of standard and standard sub and sub-function categories, further defined below. The standard development entity, whether a Federal agency, Standard Development Organization (SDO), State, State Safety Oversight Agency (SSOA), or specific industry association is also identified. Hyperlinks to specific standards, protocols, and classification content are provided in the Compendium to allow an opportunity for a thorough review of those standards and protocols.

The “standard types” used in the Compendium include those standards and protocols related to vehicle standards (including performance), infrastructure and related items, operational standards, personnel (including operator and fatigue management), State of Good Repair (SGR), emergency/incident management, and training and certifications. Each of these standard types is presented below with associated standard sub categories.

Vehicle Standards: The Vehicle Standards include the following sub categories: Vehicle Components and Passenger Equipment Safety Standards; Vehicle Crashworthiness; Vehicle Interface/Communications Systems; and Vehicle Safety Standards (not related to design of construction).

Infrastructure Standards and Related Items: The Infrastructure Standards include the following sub categories: Infrastructure—Fixed Structures (includes elevators and escalator safety standards and recommended practices); Bridge Safety Standards; Track and Roadbed; and Signals and Grade Crossings.

Operational Standards: The Operational Standards include the following sub categories: Operating Rules and Practices and Personnel Communications/Communication Procedures.

Personnel Standards (including Operator and Fatigue Management): The Personnel Standards include the following sub categories: Hours of Service Standards, Workplace/Worker Safety, Qualifications and Certifications of Operators and Engineers, Medical Examination Certification, Drug and Alcohol Testing, and Training and Certifications.

State of Good Repair/Maintenance Standards: The State of Good Repair/Maintenance Standards include the following sub categories: Maintenance and Safety Inspection Standards.

Emergency/Incident Management Standards: The Emergency/Incident Management Standards include the following sub categories: Emergency Preparedness/Management and Incident Investigation, Reporting, and Recovery.

If a state or industry organization adopts a Federal regulation by reference or a standard developed by a standard development organization, this regulation or standard is not reflected in the section of the Compendium specific to that state or organization, but rather is included within the list of standards from the source Federal regulatory body or standard development organization.

III. Questions

FTA seeks specific comments, and any related statements or observations, to the following questions.

1. Are there standards in place for your system that are not reflected in the Compendium?

2. Are the standards utilized within your system, but not listed in the Compendium mandated or promulgated by a Federal or State agency, State Safety Oversight Agency, regional regulatory body, or other entity? If so, what are they?

3. What observations or data driven statements can you provide stating or documenting the effectiveness of the standards included in the Compendium (or those in place for your system, but not reflected in the Compendium)?

4. Based on your experiences or safety-related trends at your agency, are there areas of concern for which standards should be established by FTA through subsequent rulemaking activity? If so, what are they?

5. Are there specific transit modes and associated areas of risk that should be areas of focus for FTA more than others? If so, what are they?

6. If standards were established based on various determinants of risk, how should those areas of risk be prioritized? Should standards be established based on exposure rates (passenger/vehicle miles), number or rate of injuries, or number or rate of fatalities, as examples?

7. Are there any safety standards utilized in the public transportation industry that are not reflected in the Compendium nor in place within your agency that should be included in the Compendium? If so, what are they?

8. Are you aware of safety standards utilized in other industries that should be examined? If so, what are they?

9. FTA was unable to identify any standards or protocols relates to the following topics:

• Reduce blind spots,

• protect rail and bus operators from assaults, and

• allow sufficient time within route schedules for operators to use restroom facilities.

Are you aware of any existing safety standards or protocols that may address any of these areas of risk? If so, please identify each standard or protocol by its reference and source and provide information you may have related to the efficacy of such standard or protocol.

IV. Use of Stakeholder Comments

Comments received will be included in FTA's ongoing evaluation of safety standards and the effectiveness of those standards and will be reflected in the report issued in accordance with Section 3020(c) of the FAST Act.

Issued on: May 12, 2016.
Carolyn Flowers,
Acting Administrator.

[FR Doc. 2016-11585 Filed 5-16-16; 8:45 am]

BILLING CODE P